DEPARTMENT OF THE TREASURY

Internal Revenue Service

26 CFR Part 1

[TD 9198]

RIN 1545-AY42

Guidance Under Section 355(e); Recognition of Gain on Certain Distributions of Stock or Securities in Connection With an Acquisition; Correction

AGENCY: Internal Revenue Service (IRS), Treasury.

ACTION: Correction to final regulations and removal of temporary regulations.

SUMMARY: This document corrects final regulations and removal of temporary regulations (TD 9198), that were published in the Federal Register on Tuesday, April 19, 2005 (70 FR 20279) that relate to the recognition of gain on certain distributions of stock or securities of a controlled corporation in connection with an acquisition.

DATES: This correction is effective April 19, 2005.

FOR FURTHER INFORMATION CONTACT: Amber R. Cook, (202) 622-7530 (not a toll-free number).

SUPPLEMENTARY INFORMATION:

Background

The final regulations and removal of temporary regulations (TD 9198), which is the subject of this correction are under section 355(e) of the Internal Revenue Code.

Need for Correction

As published, the final regulations and removal of temporary regulations (TD 9198) contain errors that may prove to be misleading and are in need of clarification.

Correction of Publication

Accordingly, the publication of the final regulations and removal of temporary regulations (TD 9198), which was the subject of FR. Doc. 05-7811, is corrected as follows:

1. On page 20280, column 2, in the preamble, under the paragraph heading “New Safe Harbor for Acquisitions Before a Pro Rata Distribution”, line 9, the language “discussions regarding the acquisition” is corrected to read “discussions with the acquirer regarding a distribution”.

2. On page 20280, column 2, in the preamble, under the paragraph heading “New Safe Harbor for Acquisitions Before a Pro Rata Distribution”, lines 15 and 16, the language “prior to discussions regarding the acquisition and that the acquisition was” is corrected to read “prior to discussions regarding a distribution and that the acquisition was”.

Cynthia E. Grigsby,
Acting Chief, Publications and Regulations Branch, Legal Processing Division, Associate Chief Counsel, (Procedures and Administration).

[FR Doc. 05-9615 Filed 5-16-05; 8:45 am]

BILLING CODE 4830-01-P